DEPARTMENT OF JUSTICE

Notice of Lodging of Proposed Consent Decree Under the Oil Pollution Act

On June 8, 2015, the Department of Justice lodged a proposed Consent Decree with the United States District Court for the Western District of Michigan in the lawsuit entitled United States, et al. v. Enbridge Energy Limited Partnership, et al., Civil Action No. 1:15-CV-590.

The United States, the State of Michigan, the Nottawaseppi Huron Band of the Potawatomi Indians and the Match-E-Be-Nash-E-Wish Band of the Pottowatomi filed this action seeking damages under the Oil Pollution Act for injuries to natural resources that occurred as a result of discharges of oil into Talmadge Creek, the Kalamazoo River and adjoining shorelines following a July 2010 rupture of the Line 6B oil pipeline owned and operated by various Enbridge entities. The State of Michigan also asserts claims for natural resource damages under State law.

Under the proposed Consent Decree, seven affiliated Enbridge entities (“Enbridge”) will pay $1,484,952, plus interest, to reimburse past natural resource damage assessment costs incurred by federal natural resource trustees and an additional $150,000, plus interest, to reimburse natural resource damage assessment costs incurred by the two Tribes. The Consent Decree also requires Enbridge to complete a number of natural resource damage restoration projects in accordance with workplans and schedules established or approved under a separate State Consent Judgment in Michigan Dep't of Envtl. Quality v. Enbridge Energy Partners, L.P., et al., No. 15-1411-CE (Calhoun County Cir. Ct. May 13, 2015). In addition, Enbridge will pay $2,265,048, plus interest, to a Restoration Account within the Department of the Interior's Natural Resource Damage Assessment and Restoration Fund, for joint use of federal, state, and tribal natural resource trustees. Of the Funds in the Restoration Account, at least $1,703,174, plus interest, will be used to fund additional natural resource restoration projects consistent with a Restoration Plan that is subject to approval by the natural resource trustees. Up to $561,875 of the funds in the Restoration Account, plus interest, will be available for and applied as needed to fund Future Costs of federal and tribal natural resource trustees, including costs of restoration planning activities and costs of overseeing implementation of any natural resource restoration projects required under the Consent Decree. The proposed Consent Decree will resolve natural resource damages claims asserted against Enbridge in the complaint, but it does not resolve other claims against Enbridge arising from the July 2010 oil discharges from the Line 6B pipeline, including claims for injunctive relief and civil penalties under the Clean Water Act. The proposed Consent Decree reserves such claims for separate resolution.

The publication of this notice opens a period for public comment on the proposed Consent Decree. Comments should be addressed to the Assistant Attorney General, Environment and Natural Resources Division and should refer to United States et al., v. Enbridge Energy Limited Partnership, et al., D.J. Ref. No. 90-5-1-1-10099/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $10.75 (25 cents per page reproduction cost) payable to the United States Treasury.

Randall M. Stone,
Acting Assistant Section Chief, Environmental Enforcement Section, Environment and Natural Resources Division.

[FR Doc. 2015-14384 Filed 6-11-15; 8:45 am]

BILLING CODE 4410-15-P